DEPARTMENT OF TRANSPORTATION

Federal Aviation Administration

14 CFR Part 39

[Docket No. 2003-CE-20-AD; Amendment 39-13270; AD 2003-16-17]

RIN 2120-AA64

Airworthiness Directives; Dornier Luftfahrt GMBH Models 228-100, 228-101, 228-200, 228-201, 228-202, and 228-212 Airplanes

AGENCY: Federal Aviation Administration, DOT.

ACTION: Final rule.

SUMMARY: This amendment adopts a new airworthiness directive (AD) that applies to certain Dornier Luftfahrt GMBH (Dornier) Models 228-100, 228-101, 228-200, 228-201, 228-202, and 228-212 airplanes that have electrical cabin/cockpit heater option P05 or option P09 installed. This AD requires you to modify the cockpit and cabin auxiliary heating wiring. This AD is the result of mandatory continuing airworthiness information (MCAI) issued by the airworthiness authority for Germany. The actions specified by this AD are intended to correct problems with the current design of the heater wiring, which could result in failure of the auxiliary cabin heater. Such failure could lead to overheating and smoke in the cockpit.

DATES: This AD becomes effective on October 6, 2003.

The Director of the Federal Register approved the incorporation by reference of certain publications listed in the regulations as of October 6, 2003.

ADDRESSES: You may get the service information referenced in this AD from Dornier Luftfahrt GmbH, Customer Support, P.O. Box 1103, D-82230 Wessling, Federal Republic of Germany; telephone: (08153) 300; facsimile: (08153) 304463. You may view this information at the Federal Aviation Administration (FAA), Central Region, Office of the Regional Counsel, Attention: Rules Docket No. 2003-CE-20-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Luftfahrt-Bundesamt (LBA), which is the airworthiness authority for Germany, recently notified FAA that an unsafe condition may exist on certain Dornier Models 228-100, 228-101, 228-200 and 228-201, 228-202, and 228-212 airplanes. The LBA reports an occurrence of stuck contacts of the power relay of the heating circuit to the auxiliary cabin heater, Dornier option P05 or P09.

What is the potential impact if FAA took no action? Failure of the auxiliary cabin heater could lead to overheating and smoke in the cockpit.

Has FAA taken any action to this point? We issued a proposal to amend part 39 of the Federal Aviation Regulations (14 CFR part 39) to include an AD that would apply to certain Dornier Models 228-100, 228-101, 228-200, 228-201, 228-202, and 228-212 airplanes that have electrical cabin/cockpit heater option P05 or option P09 installed. This proposal was published in the Federal Register as a notice of proposed rulemaking (NPRM) on May 15, 2003 (68 FR 26242). The NPRM proposed to require you to modify the cockpit and cabin auxiliary heating wiring.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes does this AD impact? We estimate that this AD affects 14 airplanes in the U.S. registry.

What is the cost impact of this AD on owners/operators of the affected airplanes? We estimate the following costs to accomplish this modification. We have no way of determining the number of airplanes that may need such modification:

Labor cost | Parts cost | Total cost per airplane
3 workhours × $60 per hour = $180 | $95 | $275

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-16-17 Dornier Luftfahrt GMBH: Amendment 39-13270; Docket No. 2003-CE-20-AD.

(a) What airplanes are affected by this AD? This AD affects Models 228-100, 228-101, 228-200, 228-201, 228-202, and 228-212 airplanes, all serial numbers, that are:

(1) Certificated in any category; and

(2) Equipped with electrical cabin/cockpit heater option P05 or option P09 auxiliary cabin heater(s) (32HA/35HA or 51HA/52HA).

(b) Who must comply with this AD? Anyone who wishes to operate any of the airplanes identified in paragraph (a) of this AD must comply with this AD.

(c) What problem does this AD address? The actions specified by this AD are intended to correct problems with the current design of the heater wiring, which could result in failure of the auxiliary cabin heater. Such failure could lead to overheating and smoke in the cockpit.

(d) What actions must I accomplish to address this problem? To address this problem, you must accomplish the following:

Actions | Compliance | Procedures
(1) Modify any installed cockpit and cabin auxiliary cabin heater (32HA/35HA or 51HA/52HA) heating wiring | Within the next 50 hours time-in-service (TIS) after October 6, 2003 (the effective date of this AD), unless already accomplished. Removal from the airplane of any unmodified auxiliary cabin heater (32HA/35HA or 51HA/52HA) is terminating action for this AD | In accordance with Fairchild Dornier Dornier 228 Service Bulletin No. SB-228-249, Revision No. 1, dated October 14, 2002, and following standard practices.
(2) Do not install any auxiliary cabin heater (32HA/35HA or 51HA/52HA) (or FAA-approved equivalent part number) unless it has been modified as required in paragraph (d)(1) of effective this AD | As of October 6, 2003 (the effective date of this AD) | Not applicable.

(e) Can I comply with this AD in any other way? To use an alternative method of compliance or adjust the compliance time, follow the procedures in 14 CFR 39.19. Send these requests to the Manager, Standards Office, Small Airplane Directorate. For information on any already approved alternative methods of compliance, contact Karl Schletzbaum, Aerospace Engineer, FAA, Small Airplane Directorate, 901 Locust, Room 301, Kansas City, Missouri 64106; telephone: (816) 329-4146; facsimile: (816) 329-4090.

(f) Are any service bulletins incorporated into this AD by reference? Actions required by this AD must be done in accordance with Fairchild Dornier Dornier 228 Service Bulletin No. SB-228-249, Revision No. 1, dated October 14, 2002. The Director of the Federal Register approved this incorporation by reference under 5 U.S.C. 552(a) and 1 CFR part 51. You may get copies from Dornier Luftfahrt GmbH, Customer Support, P.O. Box 1103, D-82230 Wessling, Federal Republic of Germany; telephone: (08153) 300; facsimile: (08153) 304463. You may view copies at the FAA, Central Region, Office of the Regional Counsel, 901 Locust, Room 506, Kansas City, Missouri, or at the Office of the Federal Register, 800 North Capitol Street, NW., suite 700, Washington, DC.

Note: The subject of this AD is addressed in German AD Number 2002-264, dated September 19, 2002.

(g) When does this amendment become effective? This amendment becomes effective on October 6, 2003.

Issued in Kansas City, Missouri, on August 7, 2003.
Michael Gallagher,
Manager, Small Airplane Directorate, Aircraft Certification Service.

[FR Doc. 03-20709 Filed 8-15-03; 8:45 am]

BILLING CODE 4910-13-P